DEPARTMENT OF HEALTH AND HUMAN SERVICES

Food and Drug Administration

Statement of Organization, Functions, and Delegations of Authority

AGENCY: Food and Drug Administration, HHS.

ACTION: Notice.

SUMMARY: The Food and Drug Administration's (FDA), Center for Devices and Radiological Health's (CDRH), Office of Communication and Education (OCE) has modified their organizational structure. The new organizational structure was approved by the Secretary of Health and Human Services on December 21, 2023, and it became effective on January 22, 2024.

FOR FURTHER INFORMATION CONTACT: Yashika Rahaman, Director, Office of Planning, Evaluation and Risk Management, Office of Finance, Budget, Acquisitions and Planning, Food and Drug Administration, 4041 Powder Mill Rd., Beltsville, MD 20705-4304, 301-796-3843.

I. Introduction

Part D, Chapter D-B, (Food and Drug Administration), the Statement of Organization, Functions and Delegations of Authority for the Department of Health and Human Services (35 FR 3685, February 25, 1970, 60 FR 56606, November 9, 1995, 64 FR 36361, July 6, 1999, 72 FR 50112, August 30, 2007, 74 FR 41713, August 18, 2009, 76 FR 45270, July 28, 2011, and 84 FR 22854, May 20, 2019) is amended to reflect the reorganization of the CDRH OCE.

The reorganization retitled OCE as the Office of Communication, Information Disclosure, Training, and Education (OCITE); abolished the Digital Communication Media Staff; established the Office of Communication and Content Development (OCCD) and the Office of Training and Education (OTE) within OCITE, established the Division of Digital Communication and Marketing (DDCM) within OCCD, and realigned the existing divisions to the new offices.

DCCE. ORGANIZATION. CDRH's OCITE is headed by the Director, and includes the following:

Office of Communication, Information Disclosure, Training, and Education (DCCE)

Program Management Operations Staff (DCCE1)

Office of Communication and Content Development (DCCEE)

Division of Communication (DCCEEA)

Division of Information Disclosure (DCCEEB)

Division of Digital Communication and Marketing (DCCEEC)

Office of Training and Education (DCCEF)

Division of Employee Training and Development (DCCEFA)

Division of Industry and Consumer Education (DCCEFB)

II. Delegations of Authority

Pending further delegation, directives, or orders by the Commissioner of Food and Drugs, all delegations and redelegations of authority made to officials and employees of affected organizational components will continue in them or their successors pending further redelegations, provided they are consistent with this reorganization.

III. Electronic Access

This reorganization is reflected in FDA's Staff Manual Guide (SMG). Persons interested in seeing the complete SMG can find it on FDA's website at: https://www.fda.gov/AboutFDA/ReportsManualsForms/StaffManualGuides/default.htm.

(Authority: 44 U.S.C. 3101).

Xavier Becerra,
Secretary, Department of Health and Human Services.

[FR Doc. 2024-09381 Filed 5-6-24; 8:45 am]

BILLING CODE 4164-01-P